DEPARTMENT OF DEFENSE

Department of the Air Force

Notice of Intent To Prepare an Environmental Impact Statement for Department of the Air Force F-15 Beddown and Infrastructure Upgrades at Andersen Air Force Base, Guam

AGENCY: Department of the Air Force, Department of Defense.

ACTION: Notice of Intent.

SUMMARY: On April 20, 2021, the Department of the Air Force (DAF), and the U.S. Navy acting as a cooperating agency, issued a Notice of Intent to prepare an Environmental Impact Statement (EIS) for Infrastructure Upgrades at Andersen Air Force Base (AFB), Guam. The DAF and U.S. Navy are now reissuing this Notice of Intent to prepare an EIS for the proposed F-15 Beddown and Infrastructure Upgrades at Andersen AFB, Guam. In addition to the originally proposed infrastructure upgrades, the EIS will assess the potential social, economic, and environmental impacts associated with supporting the beddown of 12 Republic of Singapore Air Force (RSAF) F-15 fighter aircraft and constructing proposed infrastructure upgrades at Andersen AFB. The beddown of 12 RSAF F-15 fighter aircraft is in addition to what was previously proposed.

DATES: A public scoping period of 30 days, to update the public on changes to the DAF's proposal that have occurred since the original scoping period ended on May 30, 2021, will take place starting from the date of this NOI publication in the Federal Register. Comments will be accepted at any time during the environmental impact analysis process; however, to ensure the DAF has sufficient time to consider public scoping comments during preparation of the Draft EIS, please submit comments within the 30-day scoping period. The Draft EIS is anticipated mid-2024. The Final EIS and a decision on the Proposed Action are expected in early to mid-2025.

ADDRESSES: For EIS inquires or requests for printed or digital copies of scoping materials, please contact Mr. David Martin, phone: (210) 925-4266 or david.martin.127@us.af.mil, or postal address provided below. The project website (www.AAFBInfraandF15EIS.com) provides additional information on the EIS and can be used to submit scoping comments. Scoping comments may also be submitted via postal mail to 36th Civil Engineer Squadron, ATTN: CEV (AAFB F-15 and Infrastructure EIS), Unit 14007, APO, AP 96543-4007. For printed material requests, the standard U.S. Postal Service shipping timeline will apply. Please consider the environment before requesting printed material.

SUPPLEMENTARY INFORMATION: The DAF is proposing to beddown and support the mission of 12 RSAF F-15 fighter aircraft, and construct infrastructure upgrades at Andersen AFB, Guam. Following the initial scoping period conducted in April to May 2021 (86 FR 20487, April 20, 2021), the DAF placed the EIS on a strategic pause to further consider the scope of the EIS, including the requirements of evolving strategic initiatives in the Indo-Pacific region and how the Proposed Action could best support these initiatives. As a result of the strategic pause, the DAF revised the scope of the Proposed Action to include the beddown of 12 RSAF F-15 fighter aircraft and associated mission support. The purpose of the Proposed Action is to provide critical infrastructure that enhances U.S. posture west of the International Date Line. Additionally, the purpose of the Proposed Action is to beddown and operate Republic of Singapore Air Force fighter aircraft at Andersen AFB to support training requirements. The Proposed Action is needed to enhance DAF capability to support U.S. and partner nation forces within the Indo-Pacific region and strengthen the U.S.'s ability to respond regionally and worldwide, through construction of infrastructure upgrades and increased support of fighter aircraft, in alignment with evolving DAF and DoD strategies and initiatives for the region. Increasing and improving airfield and munitions infrastructure would address capability gaps and allow for greater efficiencies and agility in the way ground operations are conducted. The DAF is the National Environmental Policy Act (NEPA) lead agency, and the U.S. Navy is a cooperating agency for this EIS process.

Under this proposal, the DAF is considering the beddown and mission support of 12 RSAF F-15 fighter aircraft, increase in annual airfield operations, increase in personnel to support the mission, and new infrastructure upgrades adjacent to the northwest corner of the airfield and within the munitions storage area at Andersen AFB. Construction would take place over approximately 3 to 7 years and would include airfield pavements, an aircraft hangar, maintenance and utilities buildings, fuel systems, fencing and utilities, roadways and parking, stormwater management infrastructure, and earth covered magazines. Approximately 209 total acres would be disturbed during construction, which would be either developed sites or maintained vegetation once construction is complete. The proposed infrastructure has multiple uses and could support both the RSAF F-15 beddown and other DAF, service component, and partner nation aircraft or missions operating from Andersen AFB now or in the future. The DAF reviewed requirements for strategic capabilities within the Indo-Pacific region and identified Andersen AFB for enhanced capabilities, including beddown of 12 RSAF F-15 aircraft and upgrade of operationally relevant infrastructure, dismissing five other potential alternative locations within the Pacific Air Forces area of responsibility from consideration. Once Andersen AFB was identified for enhanced strategic capabilities, the DAF considered other locations on Andersen AFB for construction of infrastructure upgrades; however, only the Proposed Action locations were determined to meet the criteria for the infrastructure upgrades. The No Action Alternative will also be addressed in the EIS.

Additional review and consultation which will be incorporated into the preparation of the Draft EIS will include, but are not necessarily limited to, consultation under Section 7 of the Endangered Species Act and consultation under Section 106 of the National Historic Preservation Act. The DAF will conduct cultural and natural resources surveys in the areas proposed for upgrades and consult with appropriate resource agencies to determine the potential for significant impacts on those resources. The Draft EIS will present the analysis of the potential effects of the Proposed Action and alternatives, which may include effects on historic properties, sensitive species or habitat, socioeconomics, and the noise environment among other currently unknown potential effects. Any required permits or authorizations will be determined through the EIS analysis process and presented in the Draft EIS.

Scoping and Agency Coordination: To effectively define the full range of issues to be evaluated in the EIS, the DAF is soliciting comments from interested local, territorial, and federal elected officials and agencies, as well as interested members of the public and other stakeholders. Comments are requested on potential alternatives and impacts, and identification of any relevant information, studies, or analyses of any kind concerning impacts affecting the quality of the human environment. Concurrent with the publication of this Notice of Intent, public scoping notices will be announced locally. Public scoping updates will be accomplished via the project website at www.AAFBInfraandF15EIS.com. The website provides posters, an informational brochure, and other scoping materials, and the capability for the public to provide public scoping comments.

Tommy W. Lee,
Acting Air Force Federal Liaison Officer.

[FR Doc. 2023-27166 Filed 12-14-23; 8:45 am]

BILLING CODE 5001-10-P